DEPARTMENT OF THE TREASURY

United States Mint

Notification of Citizens Coinage Advisory Committee July 31, 2018, Public Meeting

SUMMARY: Pursuant to United States Code, the United States Mint announces the Citizens Coinage Advisory Committee (CCAC) public meeting scheduled for July 31, 2018.

Date: July 31, 2018.

Time: 1:00 p.m. to 3:00 p.m. EST.

Location: This meeting will occur via teleconference. Interested members of the public may dial in to listen to the meeting at (866) 564-9287/Access Code: 62956028.

Subject: Review and discussion of candidate designs for the 2018 $1 coin that will introduce a new series of dollar coins authorized by the American Innovation $1 Coin Act.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: Betty Birdsong, Acting United States Mint Liaison to the CCAC; 801 9th Street NW, Washington, DC 20220; or call 202-354-7200.

Any member of the public interested in submitting matters for the CCAC's consideration is invited to submit them by fax to the following number: 202-756-6525.

Authority: 31 U.S.C. 5135(b)(8)(C).

Dated: July 23, 2018.
David J. Ryder,
Director, United States Mint.

[FR Doc. 2018-15986 Filed 7-25-18; 8:45 am]

BILLING CODE P